SMALL BUSINESS ADMINISTRATION

[Disaster Declaration #13752]

Oregon Disaster #OR-00051 Declaration of Economic Injury

AGENCY: U.S. Small Business Administration.

ACTION: Amendment 1.

SUMMARY: This is a notice of an Economic Injury Disaster Loan (EIDL) declaration for the State of Oregon, dated 09/06/2013.

Incident: Multiple Fire Complexes.

Incident Period: 07/26/2013 through 09/30/2013.

Effective Date: 10/28/2013.

EIDL Loan Application Deadline Date: 06/06/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Economic Injury declaration for the State of Oregon dated 09/06/2013 is hereby amended to establish the incident period for this disaster as beginning 07/26/2013 and continuing through 09/30/2013. All other information in the original declaration remains unchanged.

(Catalog of Federal Domestic Assistance Number 59002)

Dated: October 28, 2013.
Jeanne Hulit,
Acting Administrator.

[FR Doc. 2013-26039 Filed 10-31-13; 8:45 am]

BILLING CODE 8025-01-P